DEPARTMENT OF DEFENSE

Department of the Army, Corps of Engineers

Intent To Prepare a Draft Environmental Impact Statement for the Proposed Elverta Specific Plan Project, in Sacramento County, CA, Corps Permit File Number SPK-2004-323

AGENCY: Department of the Army, U.S. Army Corps of Engineers, DOD.

ACTION: Notice of intent.

SUMMARY: The U.S. Army Corps of Engineers, Sacramento District (Corps), will prepare an Environmental Impact Statement (EIS) for the Elverta Specific Plan project, a proposed master planned community in Sacramento County, CA. The Elverta Owners Group has applied for Department of Army permits to fill approximately 39 acres of waters of the United States, including wetlands, to construct this project.

ADDRESSES: Please send written comments to Kathleen Dadey, U.S. Army Corps of Engineers, Sacramento District, 1325 J Street, Room 1480, Sacramento, CA 95814-2922.

FOR FURTHER INFORMATION CONTACT: Questions about the proposed action and EIS should be addressed to Kathleen Dadey, (916) 557-7253, e-mail: Kathleen.A.Dadey@usace.army.mil.

SUPPLEMENTARY INFORMATION: The Elverta Specific Plan (Plan) addresses future land uses on approximately 1,745 acres in north-central Sacramento County, California. The Elverta Owners Group has applied for Department of the Army permits under Section 404 of the Clean Water Act to develop approximately 775.6 acres of the Plan area as the initial phase of the Plan. The Elverta Owners Group, which is comprised of 13 applicants, has submitted one application for the infrastructure to serve the Plan area and individual permit applications for 22 separate development parcels (projects). Each of the projects is complete and independent from one another; however, each of the projects relies upon the common drainage, roadways, and sewer infrastructure as described in the infrastructure permit application.

An Environmental Impact Report (EIR) was prepared for the Plan by the Sacramento County Department of Environmental Review and Assessment (DERA) under the California Environmental Quality Act (CEQA). The EIR provided a site plan that identified participant properties included in the project at the time of publication. Since that time the mix of included properties has changed. For this reason, figures and analyses in the EIR and in various technical documents show differing patterns of included project parcels within the Plan area as compared to the current proposal. However, because the EIR evaluated impacts at a programmatic level for the entire Plan area, all parcels that are included in the current proposal were evaluated by DERA in the EIR.

The Elverta Specific Plan is primarily residential in character: It includes 880.3 acres of urban residential uses and 551.8 acres of agricultural-residential uses with a total of 6,187 residential units; 15.0 acres of commercial uses; 4.4 acres of office/professional uses; 20.2 acres of school uses; 73.3 acres of park uses; 18.4 acres (former landfill site) to be designated as open space; and 191.9 acres to be used for drainageways, detention facilities, trails, powerline corridor and major roads. Development proposed by the Elverta Owners Group on the 22 parcels would be consistent with these uses. The number of residential units has increased from the original 4,950 units analyzed previously in the EIR. The Sacramento County Housing Element 2008-2013 (adopted December 2008) allows for a 25% density increase for residential development projects that meet the following two conditions: (1) Result in energy savings beyond those obtained with conventional design and construction techniques, and, (2) The amount of increased density is proportional to the amount of increased energy efficiency achieved that exceeds adopted regulations (see Chapter 3, Sub-Strategy VII-A, Policy HE-59c of the Housing Element [page 3-91]). The proposed project would meet these criteria and therefore the maximum of 6,187 residential units is proposed.

The project would result in fill of up to 39 acres of waters of the United States, including seasonal wetlands, vernal pools, intermittent channels, swales, and ditches. Some of this fill would be permanent and some would be temporary. Temporary fill would be restored with approximately 15 acres of riparian corridors on the project site. The riparian enhancements are expected to enhance the hydrologic functions and biological quality of existing channels. Offsite mitigation is also proposed to compensate for onsite impacts to wetlands and waters.

The EIS will include an evaluation of a reasonable range of alternatives. Currently, the following alternatives are expected to be analyzed in detail: (1) The no action (no development) alternative, (2) the no federal action (no permit issued) alternative, (3) the applicant's preferred project, (4) the approved Specific Plan, and (5) a different location (off-site) alternative. The no action (no development) alternative assumes no development would occur on the site. The no federal action (no permit issued) alternative assumes limited development would occur on the site with all waters of the United States avoided. The off-site alternative assumes the proposed project would be developed at a different but suitably sized site in the region. The Corps will also use the EIS to evaluate alternatives under the Section 404(b)(1) Guidelines, and additional alternatives may be developed under this evaluation.

The Corps' scoping process for the EIS includes a public involvement program with several opportunities to provide oral and written comments. In addition to public meetings and notifications in the Federal Register, the Corps will issue public notices when the draft and final EISs are available. Affected Federal, State, and local agencies, Native American tribes, and other interested private organizations and parties are invited to participate.

Potentially significant issues to be analyzed in the EIS include, but are not limited to: Loss of waters of the United States, including wetlands; land use and agriculture; population, employment and housing; environmental justice and socio-economic impacts; drainage, hydrology and water quality; utilities and service systems; public services; geology, soils and mineral resources; paleontological resources; cultural and historic resources; biological resources; visual resources; parks and recreation; hazards and hazardous materials; traffic and transportation; air quality and global climate change; noise; and cumulative and growth inducing impacts. The Corps is the lead agency for preparation of the EIS under the requirements of the National Environmental Policy Act (NEPA). The Corps will coordinate with other agencies, such as Sacramento County.

Other environmental review and consultation requirements for the proposed action include the need for the applicant to obtain water quality certification under Section 401 of the Clean Water Act from the California Central Valley Regional Water Quality Control Board. In addition, the federally listed vernal pool fairy shrimp (Branchinecta lynchi) is known to occur in the Plan area. Surveys conducted on the majority of the properties within the Plan area according to the U.S. Fish and Wildlife Service's protocol requirements during the wet seasons of 2000 and 2001 found B. lynchi at three locations. Dry season sampling conducted in 2005 (on 12 parcels) and 2007 (on 23 parcels) also found evidence of the federally listed Branchinecta. The Corps will formally consult with the U.S. Fish and Wildlife Service in accordance with Section 7 of the federal Endangered Species Act. The Corps will also consult with the State Historic Preservation Officer under Section 106 of the National Historic Preservation Act concerning properties listed, or potentially eligible for listing, on the National Register of Historic Places.

A public scoping meeting for the EIS will be held on June 24, 2009, from 4 p.m. to 7 p.m. The meeting will be held at the Rio Linda Elverta Community Center, 810 Oak Lane, Rio Linda, CA 95673. Interested parties can provide oral and written comments at the meeting. Interested parties may also submit written comments on this notice. Scoping comments should be submitted before June 29, 2009 but may be submitted at any time prior to publication of the Draft EIS.

Interested parties may register for the Corps' public notice e-mail notification lists at: http://www.spk.usace.army.mil/organizations/cespk-co/regulatory/pnlist.html.

Brenda S. Bowen,
Army Federal Register Liaison Officer.

[FR Doc. E9-13473 Filed 6-8-09; 8:45 am]

BILLING CODE 3720-58-P